DEPARTMENT OF COMMERCE

Foreign-Trade Zones Board

[Docket 2-2000]

Foreign-Trade Zone 193-Pinellas County, FL; Application For Foreign-Trade Subzone Status; RP Scherer Corporation (Gelatin Capsules), Pinellas County, FL

An application has been submitted to the Foreign-Trade Zones Board (the Board) by the Pinellas County Board of County Commissioners, grantee of FTZ 193, requesting special-purpose subzone status for the gelatin capsule manufacturing facilities of RP Scherer Corporation (RP Scherer), a subsidiary of Cardinal Health, Inc., located in the St. Petersburg/Clearwater area, Pinellas County, Florida. The application was submitted pursuant to the Foreign-Trade Zones Act, as amended (19 U.S.C. 81a-81u), and the regulations of the Board (15 CFR part 400). It was formally filed on January 20, 2000.

The RP Scherer facilities (42.1 acres) are located at 4 sites in the St. Petersburg/Clearwater area (Pinellas County), Florida: Site 1 (3 buildings, 348,093 mfg. sq. ft. on 32.2 acres)”—main manufacturing plant, located at 2725 Scherer, St. Petersburg; Site 2 (1 building, 48,400 mfg. sq. ft. on 2.2 acres,)—manufacturing plant #2 (leased from Danielson, Ltd.), located at 11286 47th Street North, Clearwater; Site 3 (1 building, 63,000 mfg. sq. ft. on 3.3 acres,)—manufacturing plant #3 (leased from First Group, Inc.), located at 11399 47th Street North, Clearwater, and Site 4 (23,140 sq. ft.)—warehouse facility (leased from Ft. Lauderdale-Staples, L.L.C.), located at 10990 US 19, Clearwater. The facilities (754 employees) are used for the manufacture of soft gelatin capsules for pharmaceutical, nutritional, cosmetic, and recreational products. RP Scherer encapsulates the products in gelatin capsule form and returns them to client companies for packaging and distribution. The company purchases raw gelatin from abroad. At this time, the company is only requesting to use zone procedures for the encapsulation of pharmaceutical and nutritional products.

FTZ procedures would enable the company to choose the lower duty rate that applies to the finished pharmaceutical and nutritional products (HTSUS headings 3003, 3004, 3006—duty-free), instead of the duty rate that would otherwise apply to foreign gelatin (HTSUS 3503.00.55, duty rate—3.8% + 2.8¢/kg). The application indicates that the savings from zone procedures would help improve the international competitiveness of the RP Scherer plant and of the U.S. pharmaceutical plants that use this service.

In accordance with the Board's regulations, a member of the FTZ Staff has been designated examiner to investigate the application and report to the Board.

Public comment on the application is invited from interested parties. Submissions (original and three copies) shall be addressed to the Board's Executive Secretary at the address below. The closing period for their receipt is April 3, 2000. Rebuttal comments in response to material submitted during the foregoing period may be submitted during the subsequent 15-day period to April 18, 2000.

A copy of the application and the accompanying exhibits will be available for public inspection at each of the following locations:

Office of the Executive Secretary, Foreign-Trade Zones Board, U.S. Department of Commerce, Room 4008, 14th and Pennsylvania Avenue, NW., Washington, D.C. 20230

U.S. Department of Commerce Export Assistance Center, 1130 Cleveland St., Clearwater, Florida 34615

Dated: January 20, 2000.
Dennis Puccinelli,
Acting Executive Secretary.

[FR Doc. 00-2293 Filed 2-2-00; 8:45 am]

BILLING CODE 3510-DS-P